DEPARTMENT OF JUSTICE

Notice of Lodging of Consent Decree Under the Clean Air Act

Notice is hereby given that on May 13, 2011 a proposed Consent Decree in United States of America v. BASF Corporation, Civil Action No. 3:11-cv-00222 was lodged with the United States District Court for the Southern District of Texas.

In this action the United States sought civil penalties and injunctive relief for violations of the Clean Air Act, 42 U.S.C. 7401 et seq. that occurred at BASF Corp.'s chemical manufacturing facility located on Copper Road in Freeport, Texas. In the Complaint, the United States alleged that BASF violated requirements of the Texas State Implementation Plan (“the Texas SIP”), permits issued pursuant to the Texas SIP, Standards of Performance for New Stationary Sources (codified at 40 CFR part 60) incorporated in the permits, and National Emission Standards for Hazardous Air Pollutants (“NESHAPs”) (codified at 40 CFR part 63). The Consent Decree requires BASF to pay a civil penalty of $500,000 and imposes injunctive relief requirements on BASF related to the Oxo Alcohols Flare, the CoGeneration Unit, and Boilers B-20A and B-20C.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America v. BASF Corporation, D.J. Ref. 90-5-2-1-08255/1.

During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $10.50 cents per page reproduction cost) payable to the U.S. Treasury or, if by e-mail or fax, forward a check in that amount to the Consent Decree Library at the stated address.

Maureen M. Katz,
Assistant Chief, Environmental Enforcement Section, Environment and Natural Resources Division.

[FR Doc. 2011-13301 Filed 5-27-11; 8:45 am]

BILLING CODE 4410-15-P